FEDERAL COMMUNICATIONS COMMISSION

47 CFR Part 74

[MB Docket No. 03-185; GN Docket No. 12-268; ET Docket No. 14-175; FCC 15-175]

Low Power Television Digital Rules

AGENCY: Federal Communications Commission.

ACTION: Final rule; announcement of effective date.

SUMMARY: In this document, the Federal Communications Commission (Commission) announces that the Office of Management and Budget (OMB) has approved, for a period of three years, certain information collection requirements associated with the Commission's Low Power Television Digital Rules Report and Order, FCC 15-175. This document is consistent with the Low Power Television Digital Rules Report and Order, which stated that the Commission would publish a document in the Federal Register announcing OMB approval and the effective date of the rule.

DATES: 47 CFR 74.800, published at 81 FR 5041, February 1, 2016, is effective June 22, 2016.

FOR FURTHER INFORMATION CONTACT: Cathy Williams, Cathy.Williams@fcc.gov, (202) 418-2918.

SUPPLEMENTARY INFORMATION: This document announces that, on June 15, 2016, OMB approved the information collection requirements contained in the Commission's Low Power Television Digital Rules Report and Order, FCC 15-175, published at 81 FR 5041, February 1, 2016. The OMB Control Number is 3060-1177. The Commission publishes this document as an announcement of the effective date of the requirement. If you have any comments on the burden estimates listed below, or how the Commission can improve the collections and reduce any burdens caused thereby, please contact Cathy Williams, Federal Communications Commission, Room 1-C823, 445 12th Street SW., Washington, DC 20554. Please include the OMB Control Number, 3060-1177, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on June 15, 2016 for the information collection requirements contained in FCC 15-175, 47 CFR 74.800. Under 5 CFR 1320, an agency may not conduct or sponsor a collection of information unless it displays a current, valid OMB Control Number.

No person shall be subject to any penalty for failing to comply with a collection of information subject to the Paperwork Reduction Act that does not display a current, valid OMB Control Number. The OMB Control Number is 3060-1177. The foregoing document is required by the Paperwork Reduction Act of 1995, Public Law 104-13, October 1, 1995, and 44 U.S.C. 3507.

The total annual reporting burdens and costs for the respondents are as follows:

OMB Control No.: 3060-1177.

OMB Approval Date: June 15, 2016.

OMB Expiration Date: June 30, 2019.

Title: 47 CFR 74.800, Channel Sharing Agreement.

Form Numbers: Not applicable.

Respondents: Business or other for profit entities; Not for profit institutions; State, local or Tribal government.

Number of Respondents/Responses: 100 respondents; 100 responses.

Estimated Hours per Response: 1 hr.

Frequency of Response: One time reporting requirement.

Total Annual Burden: 100 hours.

Total Annual Cost: $54,000.

Obligation to Respond: Required to obtain benefits. The statutory authority for this information collection is contained in sections 1, 4(i) and (j), 7, 154(i), 301, 302, 303, 307, 308, 309, 312, 316, 318, 319, 324, 325, 336 and 337 of the Communications Act of 1934, as amended.

Nature and Extent of Confidentiality: There is no need for confidentiality with this collection of information.

Privacy Act Assessment: No impact(s).

Needs and Uses: On December 18, 2015, the Commission released a Third Report and Order and Fourth Notice of Proposed Rulemaking, In the Matter of Amendment of Parts 73 and 74 of the Commission's Rules to Establish Rules for Digital Low Power Television and Television Translator Stations, MB Docket No. 03-185, FCC 15-175. Low power television and television translator stations (collectively “LPTV stations”) will be required to include certain terms in their channel sharing agreements (CSAs) and to file their CSAs with the Commission. This new requirement is provided in 47 CFR 74.800.

Federal Communications Commission.
Marlene H. Dortch,
Secretary, Office of the Secretary.

[FR Doc. 2016-14804 Filed 6-21-16; 8:45 am]

BILLING CODE 6712-01-P